SMALL BUSINESS ADMINISTRATION

[Disaster Declaration #13633 and #13634]

Alaska Disaster Number AK-00028

AGENCY: U.S. Small Business Administration.

ACTION: Amendment 1.

SUMMARY: This is an amendment of the Presidential declaration of a major disaster for the State of Alaska (FEMA—4122—DR), dated 06/25/2013.

Incident: Flooding.

Incident Period: 05/17/2013 through 06/11/2013.

Effective Date: 08/28/2013.

Physical Loan Application Deadline Date: 09/25/2013.

EIDL Loan Application Deadline Date: 03/25/2014.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street SW., Suite 6050, Washington, DC. 20416

SUPPLEMENTARY INFORMATION: The notice of the President's major disaster declaration for the State of Alaska, dated 06/25/2013 is hereby amended to extend the deadline for filing applications for physical damages as a result of this disaster to 09/25/2013.

All other information in the original declaration remains unchanged.

(Catalog of Federal Domestic Assistance Numbers 59002 and 59008)

James E. Rivera,
Associate Administrator for Disaster Assistance.

[FR Doc. 2013-22044 Filed 9-10-13; 8:45 am]

BILLING CODE 8025-01-P